DEPARTMENT OF THE INTERIOR

Bureau of Land Management

Notice of Availability of the Ukiah Proposed Resource Management Plan and Final Environmental Impact Statement; California

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a proposed Resource Management Plan/Final Environmental Impact Statement (RMP/EIS) for the Ukiah Field Office.

DATES: The BLM Planning Regulations (43 CFR 1610.5-2) state that any person who participated in the planning process, and has an interest which is or may be adversely affected, may protest BLM's approval of a RMP. You must file a protest within 30 days of the date that the Environmental Protection Agency publishes their Notice of Availability in the Federal Register. Instructions for filing of protests are described in the Proposed RMP/Final EIS and in the Supplementary Information section of this notice.

FOR FURTHER INFORMATION CONTACT: Eli Ilano, 2550 North State Street, Ukiah, CA 95482; (916) 978-4427; ukiahrmp@ca.blm.gov.

SUPPLEMENTARY INFORMATION: The planning area covers approximately 270,000 surface acres and approximately 214,000 acres of additional subsurface mineral estate within the following California counties: Marin, Solano, Sonoma, Mendocino, Lake, Napa, Yolo, Colusa, and Glenn. The Ukiah RMP, when completed, will provide management guidance for use and protection of the resources managed by the Ukiah Field Office. The Ukiah Proposed RMP/Final EIS has been developed through a collaborative planning process, including numerous public meetings, workshops, and field trips held across the planning area and throughout the planning process. The Ukiah Draft RMP/Draft EIS was published for public comment on September 16, 2005. During the 90 day public comment period BLM received approximately 2,400 comments, which are responded to in the Proposed RMP/Final EIS. Public comments resulted in the addition of clarifying text, but did not significantly change proposed land use decisions. The primary issues addressed in the Proposed RMP/Final EIS include: Conflicts between motorized, mechanized, and non-motorized/non-mechanized recreationists; protection of sensitive natural and cultural resources from impacts due to increased recreational use and other land uses; provision of guidance for wind energy development; special management areas; and addressing other planning issues raised during the scoping process.

Copies of the Ukiah Proposed RMP/Final EIS have been sent to affected Federal, State, and local government agencies and to interested parties. Copies of the Proposed RMP/Final EIS are available for public inspection at the BLM Ukiah Field Office, the BLM California State Office, and at the public library in Ukiah. Interested persons may also review the Proposed RMP/Final EIS on the Internet at http://www.blm.gov/ca/ukiah/rmp.

Instructions for filing a protest with the Director of the BLM regarding the Proposed Plan/Final EIS may be found at 43 CFR 1610.5-2. A protest may only raise those issues which were submitted for the record during the planning process. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov.

Please direct the follow-up letter to the appropriate address provided below. The protest must contain:

a. The name, mailing address, telephone number, and interest of the person filing the protest.

b. A statement of the part or parts of the plan and the issue or issues being protested.

c. A copy of all documents addressing the issue(s) that the protesting party submitted during the planning process or a statement of the date they were discussed for the record.

d. A concise statement explaining why the protestor believes the State Director's decision is wrong.

All protests must be in writing and mailed to one of the following addresses:

Regular Mail: Director (210), Attention: Brenda Williams, P.O. Box 66538, Washington, DC 20035.

Overnight Mail: Director (210), Attention: Brenda Williams, 1620 L Street, NW., Suite 1075, Washington, DC 20036.

Individual respondents may request confidentiality. If you wish to withhold your name or street address from public review or from disclosure under the Freedom of Information Act, you must state this prominently at the beginning of your protest. Such requests will be honored to the extent allowed by law. All submissions from organizations and businesses, and from individuals identifying themselves as representatives or officials of organizations or businesses, will be available for public inspection in their entirety. The Director will promptly render a decision on the protest. The decision will be in writing and will be sent to the protesting party by certified mail, return receipt requested. The decision of the Director is the final decision of the Department of the Interior.

Dated: April 28, 2006.
Mike Pool,
State Director.

[FR Doc. 06-5912 Filed 6-29-06; 8:45 am]

BILLING CODE 4310-40-P